DEPARTMENT OF LABOR

Employment and Training Administration

Comment Request for Information Collection for Occupational Code Assignment (OMB 1205-0137), Extension With Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data using the Occupational Code Assignment Form (ETA 741), which expires on May 31, 2016. A copy of the proposed information collection request (ICR) can be obtained by contacting the office listed below in the addressee section of this notice or by accessing: http://www.onetcenter.org/ombclearance.html.

DATES: Written comments must be submitted to the office listed in the addresses section below, on or before February 16, 2016.

ADDRESSES: Submit written comments to Alexander Nallin, Office of Workforce Investment, Employment and Training Administration, Mail Stop C-4526, Employment and Training Administration, U.S. Department of Labor, 200 Constitution Avenue NW., Washington, DC 20210. Telephone number: 202-693-3938. Individuals with hearing or speech impairments may access the telephone number above via TTY by calling the toll-free Federal Information Relay Service at 1-877-889-5627 (TTY/TDD). Fax: 202-693-3015. Email: Nallin.Alexander@dol.gov. A copy of the proposed information collection request (ICR) can be obtained by contacting the office listed above.

SUPPLEMENTARY INFORMATION:

I. Background

The Occupational Code Assignment form (ETA 741) was developed as a public service to the users of the Occupational Information Network (O*NET), in an effort to help them in obtaining occupational codes and titles for jobs that they are unable to locate in O*NET. The O*NET system classifies nearly all jobs in the United States economy. However, new occupational specialties are continually evolving and emerging. The use of the OCA is voluntary and is provided: (1) As a uniform format to the public and private sector to submit information in order to receive assistance in identifying an occupational code; (2) to assist the O*NET system in identifying potential occupations that may need to be included in future O*NET data collection efforts; and (3) to provide input to a database of alternative (lay) titles to facilitate searches for occupational information on the O*NET Web sites including O*NET OnLine (http://online.onetcenter.org), My Next Move (www.MyNextMove.gov), My Next Move for Veterans (www.MyNextMove.org/vets), O*NET Code Connector (www.onetcodeconnector.org), as well as CareerOneStop (www.careeronestop.org). Minor changes were made to the previous form to remove two questions that were not needed and minor wording changes to clarify existing questions. The OCA process is designed to help the occupational information user relate an occupational specialty or a job title to an occupational code and title within the framework of the Standard Occupational Classification (SOC) based O*NET system. The O*NET-SOC system consists of a database that organizes the work done by individuals into approximately 1,000 occupational categories. Additionally, O*NET occupations have associated data on the importance and level of a range of occupational characteristics and requirements, including knowledge, skills, abilities, tasks and work activities. Since the O*NET-SOC system is based on the SOC system, identifying an O*NET-SOC code and title also facilitates linkage to national, state, and local occupational employment and wage estimates.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques, or other forms of information technology, e.g., permitting electronic submissions of responses.

III. Current Actions

Type of Review: extension with changes.

Title: Occupational Code Assignment.

OMB Number: 1205-0137.

Affected Public: Federal government, state, and local government, business or other for-profit/non-profit institutions, and individuals.

Form(s): ETA-741.

Total Annual Respondents: 14.

Annual Frequency: On occasion.

Summary of Annual Burden for the Occupational Code Assignment
Form | Requests per year ¹ | Hours/request ² | Hours burden used | Salary expenditure used ³ (hours × hourly income)
OCA—Part A | 14 | .5 | 7.0 | $384.16
¹ Estimate based on average for January 2013 through October 2015
² Estimates on OCA form—Part A = 30 minutes
³ Salary based on Occupational Employment Statistics data for Human Resource Manager, median wage as of May 2014 = $54.88/hour

Total Burden Cost (capital/startup): 0.

Total Burden Cost (operating/maintaining): 0.

Average Time per Response: 30 minutes for the OCA Part A; 40 minutes for the OCA Part A and OCA Request for Additional Information combined.

Estimated Total Burden Hours: 7.0.

Comments submitted in response to this comment request will be summarized and/or included in the request for OMB approval of the ICR; they will also become a matter of public record.

Portia Wu,
Assistant Secretary for Employment and Training, U.S. Department of Labor.

[FR Doc. 2015-31710 Filed 12-16-15; 8:45 am]

BILLING CODE 4510-FN-P